DEPARTMENT OF LABOR

Employment and Training Administration

[TA-W-57,596]

Dorr-Oliver Eimco USA Inc., Salt Lake City, UT; Termination of Investigation

Pursuant to Section 221 of the Trade Act of 1974, as amended, an investigation was initiated on July 21, 2005, in response to a petition filed by a company official on behalf of workers of Dorr-Oliver Eimco USA Inc., Salt Lake City, Utah.

The TAA petition form used to file on behalf of the workers is deemed invalid because it did not have a valid OMB control number. Consequently, further investigation would serve no purpose and the investigation is terminated.

Signed in Washington, DC, this 9th day of August, 2005.
Linda G. Poole,
Certifying Officer, Division of Trade Adjustment Assistance.

[FR Doc. E5-4679 Filed 8-25-05; 8:45 am]

BILLING CODE 4510-30-P